DEPARTMENT OF COMMERCE

National Oceanic and Atmospheric Administration

[I.D. 120902I]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on January 13-16, 2003.

ADDRESSES: These meetings will be held at the Holiday Inn Riverwalk, 217 North St Mary's, San Antonio, TX 78205; telephone: 210-224-2500.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

January 15

8:30 a.m.—Convene.

8:45 a.m. - 12 noon—Receive public testimony on the Cooperative Texas Shrimp Closure and on yellowedge and red grouper total allowable catch (TAC). Final action on these TACs will be taken at a subsequent meeting.

1:30 p.m. - 5:30 p.m.—Receive the report of the Reef Fish Management Committee.

January 16

8:30 a.m. - 9:30 a.m.—Receive the report of the Shrimp Management Committee.

9:30 a.m. - 11:30 a.m.—Receive the report of the Habitat Protection Committee.

11:30 a.m. - 12 noon—Receive the Mackerel Management Committee Report.

1:30 p.m. - 3 p.m. -Complete action on the Draft Red Snapper Individual Fishing Quota (IFQ) profile.

3 p.m. - 3:45 p.m.—Receive the South Atlantic Fishery Management Council liaison report.

3:45 p.m. - 4 p.m.—Receive Enforcement Reports.

4 p.m. - 4:15 p.m.—Receive the NMFS Regional Administrator's Report.

4:15 p.m. - 4:45 p.m.—Receive Director's Reports.

4:45 p.m. - 5 p.m.—Other Business.

January 13

8 a.m. - 10:30 a.m.—Convene the Shrimp Management Committee to hear a review of the economic condition of the Texas shrimp industry by Mike Haby of Texas A&M University and biological and economic reports by National Marine Fisheries Service (NMFS) on the cooperative Texas Shrimp Closure. The committee will also review the Draft Amendment 13 Options Paper addressing maximum sustainable yield (MSY), optimum yield (OY), maximum stock size threshold (MSST), and maximum fishing mortality threshold (MFMT) for shrimp stocks; vessel monitoring systems (VMS); and bycatch. The committee will make recommendations for full Council review on Thursday morning.

10:30 a.m. - 11:30 a.m.—Convene the Mackerel Management Committee to review a draft regulatory amendment/environmental assessment (EA) which addresses MSY, OY, MSST, and MFMT for the coastal migratory pelagic species.

1 p.m. - 5:30 p.m.—Convene the Reef Fish Management Committee to to hear the Reef Fish Stock Assessment Panel (RFSAP) report and Socioeconomic Panel (SEP) report on red and yellowedge groupers. They will also review the Draft Reef Fish Amendment 18 Options Paper and the Draft Reef Fish Amendment 21. The Reef Fish Amendment 18 Options Paper considers additional alternatives for management of the grouper stocks. The Reef Fish Amendment 21 considers alternatives related to the marine reserves established as gag aggregation sites off central west Florida. The Committee will also suggest to NMFS and NOAA General Counsel the types of penalties that should be used to deter violations of the provisions of an individual fishing quota (IFQ) system for red snapper. The committee will hear a presentation by NMFS enforcement on violations of the western longline prohibited area.

January 14

8:30 a.m. - 12 noon—Continue the Reef Fish Management Committee if necessary.

1:30 p.m. - 5:30 p.m.—Convene the Habitat Protection Committee to review and comment on the Draft Environmental Impact Statement (DEIS) for the Essential Fish Habitat (EFH) Generic Amendment.

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305 (c) of the MSFCMA, provided the public has been notified of the Council's intent to take final action to address the emergency. A copy of the Committee schedule and agenda can be obtained by calling (813) 228-2815.

Special Accommodations

These meetings are physically accessible to people with disabilities. Requests for sign language interpretation or other auxiliary aids should be directed to Anne Alford at the Council (see ADDRESSES) by January 6, 2003.

Dated: December 10, 2002.
Richard W. Surdi,
Acting Director, Office of Sustainable Fisheries, National Marine Fisheries Service.

[FR Doc. 02-31694 Filed 12-16-02; 8:45 am]

BILLING CODE 3510-22-S